DEPARTMENT OF THE INTERIOR

Bureau of Indian Affairs

[145A2100DD/A0T500000.000000/AAK3000000]

Indian Entities Recognized and Eligible To Receive Services From the United States Bureau of Indian Affairs

AGENCY: Bureau of Indian Affairs, Interior.

ACTION: Notice.

SUMMARY: This notice publishes the current list of 566 tribal entities recognized and eligible for funding and services from the Bureau of Indian Affairs by virtue of their status as Indian tribes. The list is updated from the notice published on May 6, 2013 (78 FR 26384).

FOR FURTHER INFORMATION CONTACT: Gail Veney, Bureau of Indian Affairs, Division of Tribal Government Services, Mail Stop 4513-MIB, 1849 C Street NW., Washington, DC 20240. Telephone number: (202) 513-7641.

SUPPLEMENTARY INFORMATION: This notice is published pursuant to Section 104 of the Act of November 2, 1994 (Pub. L. 103-454; 108 Stat. 4791, 4792), and in exercise of authority delegated to the Assistant Secretary—Indian Affairs under 25 U.S.C. 2 and 9 and 209 DM 8.

Published below is a list of federally acknowledged tribes in the contiguous 48 states and Alaska.

Amendments to the list include name changes and name corrections. To aid in identifying tribal name changes and corrections, the tribe's previously listed or former name is included in parentheses after the correct current tribal name. We will continue to list the tribe's former or previously listed name for several years before dropping the former or previously listed name from the list.

The listed Indian entities are acknowledged to have the immunities and privileges available to federally recognized Indian tribes by virtue of their government-to-government relationship with the United States as well as the responsibilities, powers, limitations and obligations of such tribes. We have continued the practice of listing the Alaska Native entities separately solely for the purpose of facilitating identification of them and reference to them given the large number of complex Native names.

Dated: January 22, 2014.
Kevin K. Washburn,
Assistant Secretary—Indian Affairs.

Indian Tribal Entities Within the Contiguous 48 States Recognized and Eligible To Receive Services From the United States Bureau of Indian Affairs

Absentee-Shawnee Tribe of Indians of Oklahoma

Agua Caliente Band of Cahuilla Indians of the Agua Caliente Indian Reservation, California

Ak Chin Indian Community of the Maricopa (Ak Chin) Indian Reservation, Arizona

Alabama-Coushatta Tribe of Texas (previously listed as the Alabama-Coushatta Tribes of Texas)

Alabama-Quassarte Tribal Town

Alturas Indian Rancheria, California

Apache Tribe of Oklahoma

Arapaho Tribe of the Wind River Reservation, Wyoming

Aroostook Band of Micmacs (previously listed as the Aroostook Band of Micmac Indians)

Assiniboine and Sioux Tribes of the Fort Peck Indian Reservation, Montana

Augustine Band of Cahuilla Indians, California (previously listed as the Augustine Band of Cahuilla Mission Indians of the Augustine Reservation)

Bad River Band of the Lake Superior Tribe of Chippewa Indians of the Bad River Reservation, Wisconsin

Bay Mills Indian Community, Michigan

Bear River Band of the Rohnerville Rancheria, California

Berry Creek Rancheria of Maidu Indians of California

Big Lagoon Rancheria, California

Big Pine Paiute Tribe of the Owens Valley (previously listed as the Big Pine Band of Owens Valley Paiute Shoshone Indians of the Big Pine Reservation, California)

Big Sandy Rancheria of Western Mono Indians of California (previously listed as the Big Sandy Rancheria of Mono Indians of California)

Big Valley Band of Pomo Indians of the Big Valley Rancheria, California

Bishop Paiute Tribe (previously listed as the Paiute-Shoshone Indians of the Bishop Community of the Bishop Colony, California)

Blackfeet Tribe of the Blackfeet Indian Reservation of Montana

Blue Lake Rancheria, California

Bridgeport Indian Colony (previously listed as the Bridgeport Paiute Indian Colony of California)

Buena Vista Rancheria of Me-Wuk Indians of California

Burns Paiute Tribe (previously listed as the Burns Paiute Tribe of the Burns Paiute Indian Colony of Oregon)

Cabazon Band of Mission Indians, California

Cachil DeHe Band of Wintun Indians of the Colusa Indian Community of the Colusa Rancheria, California

Caddo Nation of Oklahoma

Cahto Tribe of the Laytonville Rancheria

Cahuilla Band of Mission Indians of the Cahuilla Reservation, California

California Valley Miwok Tribe, California

Campo Band of Diegueno Mission Indians of the Campo Indian Reservation, California

Capitan Grande Band of Diegueno Mission Indians of California: (Barona Group of Capitan Grande Band of Mission Indians of the Barona Reservation, California;

Viejas (Baron Long) Group of Capitan Grande Band of Mission Indians of the Viejas Reservation, California)

Catawba Indian Nation (aka Catawba Tribe of South Carolina)

Cayuga Nation

Cedarville Rancheria, California

Chemehuevi Indian Tribe of the Chemehuevi Reservation, California

Cher-Ae Heights Indian Community of the Trinidad Rancheria, California

Cherokee Nation

Cheyenne and Arapaho Tribes, Oklahoma (previously listed as the Cheyenne-Arapaho Tribes of Oklahoma)

Cheyenne River Sioux Tribe of the Cheyenne River Reservation, South Dakota

Chicken Ranch Rancheria of Me-Wuk Indians of California

Chippewa-Cree Indians of the Rocky Boy's Reservation, Montana

Chitimacha Tribe of Louisiana

Citizen Potawatomi Nation, Oklahoma

Cloverdale Rancheria of Pomo Indians of California

Cocopah Tribe of Arizona

Coeur D'Alene Tribe (previously listed as the Coeur D'Alene Tribe of the Coeur D'Alene Reservation, Idaho)

Cold Springs Rancheria of Mono Indians of California

Colorado River Indian Tribes of the Colorado River Indian Reservation, Arizona and California

Comanche Nation, Oklahoma

Confederated Salish and Kootenai Tribes of the Flathead Reservation

Confederated Tribes and Bands of the Yakama Nation

Confederated Tribes of Siletz Indians of Oregon (previously listed as the Confederated Tribes of the Siletz Reservation)

Confederated Tribes of the Chehalis Reservation

Confederated Tribes of the Colville Reservation

Confederated Tribes of the Coos, Lower Umpqua and Siuslaw Indians

Confederated Tribes of the Goshute Reservation, Nevada and Utah

Confederated Tribes of the Grand Ronde Community of Oregon

Confederated Tribes of the Umatilla Indian Reservation (previously listed as the Confederated Tribes of the Umatilla Reservation, Oregon)

Confederated Tribes of the Warm Springs Reservation of Oregon

Coquille Indian Tribe (previously listed as the Coquille Tribe of Oregon)

Cortina Indian Rancheria of Wintun Indians of California

Coushatta Tribe of Louisiana

Cow Creek Band of Umpqua Tribe of Indians (previously listed as the Cow Creek Band of Umpqua Indians of Oregon)

Cowlitz Indian Tribe

Coyote Valley Band of Pomo Indians of California

Crow Creek Sioux Tribe of the Crow Creek Reservation, South Dakota

Crow Tribe of Montana

Death Valley Timbi-sha Shoshone Tribe (previously listed as the Death Valley Timbi-Sha Shoshone Band of California)

Delaware Nation, Oklahoma

Delaware Tribe of Indians

Dry Creek Rancheria Band of Pomo Indians, California (previously listed as the Dry Creek Rancheria of Pomo Indians of California)

Duckwater Shoshone Tribe of the Duckwater Reservation, Nevada

Eastern Band of Cherokee Indians

Eastern Shawnee Tribe of Oklahoma

Elem Indian Colony of Pomo Indians of the Sulphur Bank Rancheria, California

Elk Valley Rancheria, California

Ely Shoshone Tribe of Nevada

Enterprise Rancheria of Maidu Indians of California

Ewiiaapaayp Band of Kumeyaay Indians, California

Federated Indians of Graton Rancheria, California

Flandreau Santee Sioux Tribe of South Dakota

Forest County Potawatomi Community, Wisconsin

Fort Belknap Indian Community of the Fort Belknap Reservation of Montana

Fort Bidwell Indian Community of the Fort Bidwell Reservation of California

Fort Independence Indian Community of Paiute Indians of the Fort Independence Reservation, California

Fort McDermitt Paiute and Shoshone Tribes of the Fort McDermitt Indian Reservation, Nevada and Oregon

Fort McDowell Yavapai Nation, Arizona

Fort Mojave Indian Tribe of Arizona, California & Nevada

Fort Sill Apache Tribe of Oklahoma

Gila River Indian Community of the Gila River Indian Reservation, Arizona

Grand Traverse Band of Ottawa and Chippewa Indians, Michigan

Greenville Rancheria (previously listed as the Greenville Rancheria of Maidu Indians of California)

Grindstone Indian Rancheria of Wintun-Wailaki Indians of California

Guidiville Rancheria of California

Habematolel Pomo of Upper Lake, California

Hannahville Indian Community, Michigan

Havasupai Tribe of the Havasupai Reservation, Arizona

Ho-Chunk Nation of Wisconsin

Hoh Indian Tribe (previously listed as the Hoh Indian Tribe of the Hoh Indian Reservation, Washington)

Hoopa Valley Tribe, California

Hopi Tribe of Arizona

Hopland Band of Pomo Indians, California (formerly Hopland Band of Pomo Indians of the Hopland Rancheria, California)

Houlton Band of Maliseet Indians

Hualapai Indian Tribe of the Hualapai Indian Reservation, Arizona

Iipay Nation of Santa Ysabel, California (previously listed as the Santa Ysabel Band of Diegueno Mission Indians of the Santa Ysabel Reservation)

Inaja Band of Diegueno Mission Indians of the Inaja and Cosmit Reservation, California

Ione Band of Miwok Indians of California

Iowa Tribe of Kansas and Nebraska

Iowa Tribe of Oklahoma

Jackson Rancheria of Me-Wuk Indians of California

Jamestown S'Klallam Tribe

Jamul Indian Village of California

Jena Band of Choctaw Indians

Jicarilla Apache Nation, New Mexico

Kaibab Band of Paiute Indians of the Kaibab Indian Reservation, Arizona

Kalispel Indian Community of the Kalispel Reservation

Karuk Tribe (previously listed as the Karuk Tribe of California)

Kashia Band of Pomo Indians of the Stewarts Point Rancheria, California

Kaw Nation, Oklahoma

Kewa Pueblo, New Mexico (previously listed as the Pueblo of Santo Domingo)

Keweenaw Bay Indian Community, Michigan

Kialegee Tribal Town

Kickapoo Traditional Tribe of Texas

Kickapoo Tribe of Indians of the Kickapoo Reservation in Kansas

Kickapoo Tribe of Oklahoma

Kiowa Indian Tribe of Oklahoma

Klamath Tribes

Koi Nation of Northern California (previously listed as the Lower Lake Rancheria, California)

Kootenai Tribe of Idaho

La Jolla Band of Luiseno Indians, California (previously listed as the La Jolla Band of Luiseno Mission Indians of the La Jolla Reservation)

La Posta Band of Diegueno Mission Indians of the La Posta Indian Reservation, California

Lac Courte Oreilles Band of Lake Superior Chippewa Indians of Wisconsin

Lac du Flambeau Band of Lake Superior Chippewa Indians of the Lac du Flambeau Reservation of Wisconsin

Lac Vieux Desert Band of Lake Superior Chippewa Indians of Michigan

Las Vegas Tribe of Paiute Indians of the Las Vegas Indian Colony, Nevada

Little River Band of Ottawa Indians, Michigan

Little Traverse Bay Bands of Odawa Indians, Michigan

Lone Pine Paiute-Shoshone Tribe (previously listed as the Paiute-Shoshone Indians of the Lone Pine Community of the Lone Pine Reservation, California)

Los Coyotes Band of Cahuilla and Cupeno Indians, California (previously listed as the Los Coyotes Band of Cahuilla & Cupeno Indians of the Los Coyotes Reservation)

Lovelock Paiute Tribe of the Lovelock Indian Colony, Nevada

Lower Brule Sioux Tribe of the Lower Brule Reservation, South Dakota

Lower Elwha Tribal Community (previously listed as the Lower Elwha Tribal Community of the Lower Elwha Reservation, Washington)

Lower Sioux Indian Community in the State of Minnesota

Lummi Tribe of the Lummi Reservation

Lytton Rancheria of California

Makah Indian Tribe of the Makah Indian Reservation

Manchester Band of Pomo Indians of the Manchester Rancheria, California (previously listed as the Manchester Band of Pomo Indians of the Manchester-Point Arena Rancheria, California)

Manzanita Band of Diegueno Mission Indians of the Manzanita Reservation, California

Mashantucket Pequot Indian Tribe (previously listed as the Mashantucket Pequot Tribe of Connecticut)

Mashpee Wampanoag Tribe (previously listed as the Mashpee Wampanoag Indian Tribal Council, Inc.)

Match-e-be-nash-she-wish Band of Pottawatomi Indians of Michigan

Mechoopda Indian Tribe of Chico Rancheria, California

Menominee Indian Tribe of Wisconsin

Mesa Grande Band of Diegueno Mission Indians of the Mesa Grande Reservation, California

Mescalero Apache Tribe of the Mescalero Reservation, New Mexico

Miami Tribe of Oklahoma

Miccosukee Tribe of Indians

Middletown Rancheria of Pomo Indians of California

Minnesota Chippewa Tribe, Minnesota (Six component reservations: Bois Forte Band (Nett Lake); Fond du Lac Band; Grand Portage Band; Leech Lake Band; Mille Lacs Band; White Earth Band)

Mississippi Band of Choctaw Indians

Moapa Band of Paiute Indians of the Moapa River Indian Reservation, Nevada

Mohegan Indian Tribe of Connecticut

Mooretown Rancheria of Maidu Indians of California

Morongo Band of Mission Indians, California (previously listed as the Morongo Band of Cahuilla Mission Indians of the Morongo Reservation)

Muckleshoot Indian Tribe (previously listed as the Muckleshoot Indian Tribe of the Muckleshoot Reservation, Washington)

Narragansett Indian Tribe

Navajo Nation, Arizona, New Mexico & Utah

Nez Perce Tribe (previously listed as the Nez Perce Tribe of Idaho)

Nisqually Indian Tribe (previously listed as the Nisqually Indian Tribe of the Nisqually Reservation, Washington)

Nooksack Indian Tribe

Northern Cheyenne Tribe of the Northern Cheyenne Indian Reservation, Montana

Northfork Rancheria of Mono Indians of California

Northwestern Band of Shoshoni Nation (previously listed as the Northwestern Band of Shoshoni Nation of Utah (Washakie)

Nottawaseppi Huron Band of the Potawatomi, Michigan (previously listed as the Huron Potawatomi, Inc.)

Oglala Sioux Tribe (previously listed as the Oglala Sioux Tribe of the Pine Ridge Reservation, South Dakota)

Ohkay Owingeh, New Mexico (previously listed as the Pueblo of San Juan)

Omaha Tribe of Nebraska

Oneida Nation of New York

Oneida Tribe of Indians of Wisconsin

Onondaga Nation

Otoe-Missouria Tribe of Indians, Oklahoma

Ottawa Tribe of Oklahoma

Paiute Indian Tribe of Utah (Cedar Band of Paiutes, Kanosh Band of Paiutes, Koosharem Band of Paiutes, Indian Peaks Band of Paiutes, and Shivwits Band of Paiutes) (formerly Paiute Indian Tribe of Utah (Cedar City Band of Paiutes, Kanosh Band of Paiutes, Koosharem Band of Paiutes, Indian Peaks Band of Paiutes, and Shivwits Band of Paiutes))

Paiute-Shoshone Tribe of the Fallon Reservation and Colony, Nevada

Pala Band of Luiseno Mission Indians of the Pala Reservation, California

Pascua Yaqui Tribe of Arizona

Paskenta Band of Nomlaki Indians of California

Passamaquoddy Tribe

Pauma Band of Luiseno Mission Indians of the Pauma & Yuima Reservation, California

Pawnee Nation of Oklahoma

Pechanga Band of Luiseno Mission Indians of the Pechanga Reservation, California

Penobscot Nation (previously listed as the Penobscot Tribe of Maine)

Peoria Tribe of Indians of Oklahoma

Picayune Rancheria of Chukchansi Indians of California

Pinoleville Pomo Nation, California (previously listed as the Pinoleville Rancheria of Pomo Indians of California)

Pit River Tribe, California (includes XL Ranch, Big Bend, Likely, Lookout, Montgomery Creek and Roaring Creek Rancherias)

Poarch Band of Creeks (previously listed as the Poarch Band of Creek Indians of Alabama)

Pokagon Band of Potawatomi Indians, Michigan and Indiana

Ponca Tribe of Indians of Oklahoma

Ponca Tribe of Nebraska

Port Gamble S'Klallam Tribe (previously listed as the Port Gamble Band of S'Klallam Indians)

Potter Valley Tribe, California

Prairie Band Potawatomi Nation (previously listed as the Prairie Band of Potawatomi Nation, Kansas)

Prairie Island Indian Community in the State of Minnesota

Pueblo of Acoma, New Mexico

Pueblo of Cochiti, New Mexico

Pueblo of Isleta, New Mexico

Pueblo of Jemez, New Mexico

Pueblo of Laguna, New Mexico

Pueblo of Nambe, New Mexico

Pueblo of Picuris, New Mexico

Pueblo of Pojoaque, New Mexico

Pueblo of San Felipe, New Mexico

Pueblo of San Ildefonso, New Mexico

Pueblo of Sandia, New Mexico

Pueblo of Santa Ana, New Mexico

Pueblo of Santa Clara, New Mexico

Pueblo of Taos, New Mexico

Pueblo of Tesuque, New Mexico

Pueblo of Zia, New Mexico

Puyallup Tribe of the Puyallup Reservation

Pyramid Lake Paiute Tribe of the Pyramid Lake Reservation, Nevada

Quartz Valley Indian Community of the Quartz Valley Reservation of California

Quechan Tribe of the Fort Yuma Indian Reservation, California & Arizona

Quileute Tribe of the Quileute Reservation

Quinault Indian Nation (previously listed as the Quinault Tribe of the Quinault Reservation, Washington)

Ramona Band of Cahuilla, California (previously listed as the Ramona Band or Village of Cahuilla Mission Indians of California)

Red Cliff Band of Lake Superior Chippewa Indians of Wisconsin

Red Lake Band of Chippewa Indians, Minnesota

Redding Rancheria, California

Redwood Valley or Little River Band of Pomo Indians of the Redwood Valley Rancheria California (previously listed as the Redwood Valley Rancheria of Pomo Indians of California)

Reno-Sparks Indian Colony, Nevada

Resighini Rancheria, California

Rincon Band of Luiseno Mission Indians of the Rincon Reservation, California

Robinson Rancheria Band of Pomo Indians, California (previously listed as the Robinson Rancheria of Pomo Indians of California)

Rosebud Sioux Tribe of the Rosebud Indian Reservation, South Dakota

Round Valley Indian Tribes, Round Valley Reservation, California (previously listed as the Round Valley Indian Tribes of the Round Valley Reservation, California)

Sac & Fox Nation of Missouri in Kansas and Nebraska

Sac & Fox Nation, Oklahoma

Sac & Fox Tribe of the Mississippi in Iowa

Saginaw Chippewa Indian Tribe of Michigan

Saint Regis Mohawk Tribe (previously listed as the St. Regis Band of Mohawk Indians of New York)

Salt River Pima-Maricopa Indian Community of the Salt River Reservation, Arizona

Samish Indian Nation (previously listed as the Samish Indian Tribe, Washington)

San Carlos Apache Tribe of the San Carlos Reservation, Arizona

San Juan Southern Paiute Tribe of Arizona

San Manuel Band of Mission Indians, California (previously listed as the San Manual Band of Serrano Mission Indians of the San Manual Reservation)

San Pasqual Band of Diegueno Mission Indians of California

Santa Rosa Band of Cahuilla Indians, California (previously listed as the Santa Rosa Band of Cahuilla Mission Indians of the Santa Rosa Reservation)

Santa Rosa Indian Community of the Santa Rosa Rancheria, California

Santa Ynez Band of Chumash Mission Indians of the Santa Ynez Reservation, California

Santee Sioux Nation, Nebraska

Sauk-Suiattle Indian Tribe

Sault Ste. Marie Tribe of Chippewa Indians, Michigan

Scotts Valley Band of Pomo Indians of California

Seminole Tribe of Florida (previously listed as the Seminole Tribe of Florida (Dania, Big Cypress, Brighton, Hollywood & Tampa Reservations))

Seneca Nation of Indians (previously listed as the Seneca Nation of New York)

Seneca-Cayuga Tribe of Oklahoma

Shakopee Mdewakanton Sioux Community of Minnesota

Shawnee Tribe

Sherwood Valley Rancheria of Pomo Indians of California

Shingle Springs Band of Miwok Indians, Shingle Springs Rancheria (Verona Tract), California

Shinnecock Indian Nation

Shoalwater Bay Indian Tribe of the Shoalwater Bay Indian Reservation (previously listed as the Shoalwater Bay Tribe of the Shoalwater Bay Indian Reservation, Washington)

Shoshone Tribe of the Wind River Reservation, Wyoming

Shoshone-Bannock Tribes of the Fort Hall Reservation

Shoshone-Paiute Tribes of the Duck Valley Reservation, Nevada

Sisseton-Wahpeton Oyate of the Lake Traverse Reservation, South Dakota

Skokomish Indian Tribe (previously listed as the Skokomish Indian Tribe of the Skokomish Reservation, Washington)

Skull Valley Band of Goshute Indians of Utah

Smith River Rancheria, California

Snoqualmie Indian Tribe (previously listed as the Snoqualmie Tribe, Washington)

Soboba Band of Luiseno Indians, California

Sokaogon Chippewa Community, Wisconsin

Southern Ute Indian Tribe of the Southern Ute Reservation, Colorado

Spirit Lake Tribe, North Dakota

Spokane Tribe of the Spokane Reservation

Squaxin Island Tribe of the Squaxin Island Reservation

St. Croix Chippewa Indians of Wisconsin

Standing Rock Sioux Tribe of North & South Dakota

Stillaguamish Tribe of Indians of Washington (previously listed as the Stillaguamish Tribe of Washington)

Stockbridge Munsee Community, Wisconsin

Summit Lake Paiute Tribe of Nevada

Suquamish Indian Tribe of the Port Madison Reservation

Susanville Indian Rancheria, California

Swinomish Indian Tribal Community (previously listed as the Swinomish Indians of the Swinomish Reservation of Washington)

Sycuan Band of the Kumeyaay Nation

Table Mountain Rancheria of California

Tejon Indian Tribe

Te-Moak Tribe of Western Shoshone Indians of Nevada (Four constituent bands: Battle Mountain Band; Elko Band; South Fork Band and Wells Band)

The Chickasaw Nation

The Choctaw Nation of Oklahoma

The Modoc Tribe of Oklahoma

The Muscogee (Creek) Nation

The Osage Nation (previously listed as the Osage Tribe)

The Quapaw Tribe of Indians

The Seminole Nation of Oklahoma

Thlopthlocco Tribal Town

Three Affiliated Tribes of the Fort Berthold Reservation, North Dakota

Tohono O'odham Nation of Arizona

Tonawanda Band of Seneca (previously listed as the Tonawanda Band of Seneca Indians of New York)

Tonkawa Tribe of Indians of Oklahoma

Tonto Apache Tribe of Arizona

Torres Martinez Desert Cahuilla Indians, California (previously listed as the Torres-Martinez Band of Cahuilla Mission Indians of California)

Tulalip Tribes of Washington (previously listed as the Tulalip Tribes of the Tulalip Reservation, Washington)

Tule River Indian Tribe of the Tule River Reservation, California

Tunica-Biloxi Indian Tribe

Tuolumne Band of Me-Wuk Indians of the Tuolumne Rancheria of California

Turtle Mountain Band of Chippewa Indians of North Dakota

Tuscarora Nation

Twenty-Nine Palms Band of Mission Indians of California

United Auburn Indian Community of the Auburn Rancheria of California

United Keetoowah Band of Cherokee Indians in Oklahoma

Upper Sioux Community, Minnesota

Upper Skagit Indian Tribe

Ute Indian Tribe of the Uintah & Ouray Reservation, Utah

Ute Mountain Tribe of the Ute Mountain Reservation, Colorado, New Mexico & Utah

Utu Utu Gwaitu Paiute Tribe of the Benton Paiute Reservation, California

Walker River Paiute Tribe of the Walker River Reservation, Nevada

Wampanoag Tribe of Gay Head (Aquinnah)

Washoe Tribe of Nevada & California (Carson Colony, Dresslerville Colony, Woodfords Community, Stewart Community, & Washoe Ranches)

White Mountain Apache Tribe of the Fort Apache Reservation, Arizona

Wichita and Affiliated Tribes (Wichita, Keechi, Waco & Tawakonie), Oklahoma

Wilton Rancheria, California

Winnebago Tribe of Nebraska

Winnemucca Indian Colony of Nevada

Wiyot Tribe, California (previously listed as the Table Bluff Reservation—Wiyot Tribe)

Wyandotte Nation

Yankton Sioux Tribe of South Dakota

Yavapai-Apache Nation of the Camp Verde Indian Reservation, Arizona

Yavapai-Prescott Indian Tribe (previously listed as the Yavapai-Prescott Tribe of the Yavapai Reservation, Arizona)

Yerington Paiute Tribe of the Yerington Colony & Campbell Ranch, Nevada

Yocha Dehe Wintun Nation, California (previously listed as the Rumsey Indian Rancheria of Wintun Indians of California)

Yomba Shoshone Tribe of the Yomba Reservation, Nevada

Ysleta Del Sur Pueblo of Texas

Yurok Tribe of the Yurok Reservation, California

Zuni Tribe of the Zuni Reservation, New Mexico

Native Entities Within the State of Alaska Recognized and Eligible To Receive Services From the United States Bureau of Indian Affairs

Agdaagux Tribe of King Cove

Akiachak Native Community

Akiak Native Community

Alatna Village

Algaaciq Native Village (St. Mary's)

Allakaket Village

Angoon Community Association

Anvik Village

Arctic Village (See Native Village of Venetie Tribal Government)

Asa'carsarmiut Tribe

Atqasuk Village (Atkasook)

Beaver Village

Birch Creek Tribe

Central Council of the Tlingit & Haida Indian Tribes

Chalkyitsik Village

Cheesh-Na Tribe (previously listed as the Native Village of Chistochina)

Chevak Native Village

Chickaloon Native Village

Chignik Bay Tribal Council (previously listed as the Native Village of Chignik)

Chignik Lake Village

Chilkat Indian Village (Klukwan)

Chilkoot Indian Association (Haines)

Chinik Eskimo Community (Golovin)

Chuloonawick Native Village

Circle Native Community

Craig Tribal Association (previously listed as the Craig Community Association)

Curyung Tribal Council

Douglas Indian Association

Egegik Village

Eklutna Native Village

Ekwok Village

Emmonak Village

Evansville Village (aka Bettles Field)

Galena Village (aka Louden Village)

Gulkana Village

Healy Lake Village

Holy Cross Village

Hoonah Indian Association

Hughes Village

Huslia Village

Hydaburg Cooperative Association

Igiugig Village

Inupiat Community of the Arctic Slope

Iqurmuit Traditional Council

Ivanoff Bay Village

Kaguyak Village

Kaktovik Village (aka Barter Island)

Kasigluk Traditional Elders Council

Kenaitze Indian Tribe

Ketchikan Indian Corporation

King Island Native Community

King Salmon Tribe

Klawock Cooperative Association

Knik Tribe

Kokhanok Village

Koyukuk Native Village

Levelock Village

Lime Village

Manley Hot Springs Village

Manokotak Village

McGrath Native Village

Mentasta Traditional Council

Metlakatla Indian Community, Annette Island Reserve

Naknek Native Village

Native Village of Afognak

Native Village of Akhiok

Native Village of Akutan

Native Village of Aleknagik

Native Village of Ambler

Native Village of Atka

Native Village of Barrow Inupiat Traditional Government

Native Village of Belkofski

Native Village of Brevig Mission

Native Village of Buckland

Native Village of Cantwell

Native Village of Chenega (aka Chanega)

Native Village of Chignik Lagoon

Native Village of Chitina

Native Village of Chuathbaluk (Russian Mission, Kuskokwim)

Native Village of Council

Native Village of Deering

Native Village of Diomede (aka Inalik)

Native Village of Eagle

Native Village of Eek

Native Village of Ekuk

Native Village of Elim

Native Village of Eyak (Cordova)

Native Village of False Pass

Native Village of Fort Yukon

Native Village of Gakona

Native Village of Gambell

Native Village of Georgetown

Native Village of Goodnews Bay

Native Village of Hamilton

Native Village of Hooper Bay

Native Village of Kanatak

Native Village of Karluk

Native Village of Kiana

Native Village of Kipnuk

Native Village of Kivalina

Native Village of Kluti Kaah (aka Copper Center)

Native Village of Kobuk

Native Village of Kongiganak

Native Village of Kotzebue

Native Village of Koyuk

Native Village of Kwigillingok

Native Village of Kwinhagak (aka Quinhagak)

Native Village of Larsen Bay

Native Village of Marshall (aka Fortuna Ledge)

Native Village of Mary's Igloo

Native Village of Mekoryuk

Native Village of Minto

Native Village of Nanwalek (aka English Bay)

Native Village of Napaimute

Native Village of Napakiak

Native Village of Napaskiak

Native Village of Nelson Lagoon

Native Village of Nightmute

Native Village of Nikolski

Native Village of Noatak

Native Village of Nuiqsut (aka Nooiksut)

Native Village of Nunam Iqua (previously listed as the Native Village of Sheldon's Point)

Native Village of Nunapitchuk

Native Village of Ouzinkie

Native Village of Paimiut

Native Village of Perryville

Native Village of Pilot Point

Native Village of Pitka's Point

Native Village of Point Hope

Native Village of Point Lay

Native Village of Port Graham

Native Village of Port Heiden

Native Village of Port Lions

Native Village of Ruby

Native Village of Saint Michael

Native Village of Savoonga

Native Village of Scammon Bay

Native Village of Selawik

Native Village of Shaktoolik

Native Village of Shishmaref

Native Village of Shungnak

Native Village of Stevens

Native Village of Tanacross

Native Village of Tanana

Native Village of Tatitlek

Native Village of Tazlina

Native Village of Teller

Native Village of Tetlin

Native Village of Tuntutuliak

Native Village of Tununak

Native Village of Tyonek

Native Village of Unalakleet

Native Village of Unga

Native Village of Venetie Tribal Government (Arctic Village and Village of Venetie)

Native Village of Wales

Native Village of White Mountain

Nenana Native Association

New Koliganek Village Council

New Stuyahok Village

Newhalen Village

Newtok Village

Nikolai Village

Ninilchik Village

Nome Eskimo Community

Nondalton Village

Noorvik Native Community

Northway Village

Nulato Village

Nunakauyarmiut Tribe

Organized Village of Grayling (aka Holikachuk)

Organized Village of Kake

Organized Village of Kasaan

Organized Village of Kwethluk

Organized Village of Saxman

Orutsararmiut Traditional Native Council (previously listed as Orutsararmuit Native Village (aka Bethel))

Oscarville Traditional Village

Pauloff Harbor Village

Pedro Bay Village

Petersburg Indian Association

Pilot Station Traditional Village

Platinum Traditional Village

Portage Creek Village (aka Ohgsenakale)

Pribilof Islands Aleut Communities of St. Paul & St. George Islands

Qagan Tayagungin Tribe of Sand Point Village

Qawalangin Tribe of Unalaska

Rampart Village

Saint George Island (See Pribilof Islands Aleut Communities of St. Paul & St. George Islands)

Saint Paul Island (See Pribilof Islands Aleut Communities of St. Paul & St. George Islands)

Seldovia Village Tribe

Shageluk Native Village

Sitka Tribe of Alaska

Skagway Village

South Naknek Village

Stebbins Community Association

Sun'aq Tribe of Kodiak (previously listed as the Shoonaq' Tribe of Kodiak)

Takotna Village

Tangirnaq Native Village (formerly Lesnoi Village (aka Woody Island))

Telida Village

Traditional Village of Togiak

Tuluksak Native Community

Twin Hills Village

Ugashik Village

Umkumiut Native Village (previously listed as Umkumiute Native Village)

Village of Alakanuk

Village of Anaktuvuk Pass

Village of Aniak

Village of Atmautluak

Village of Bill Moore's Slough

Village of Chefornak

Village of Clarks Point

Village of Crooked Creek

Village of Dot Lake

Village of Iliamna

Village of Kalskag

Village of Kaltag

Village of Kotlik

Village of Lower Kalskag

Village of Ohogamiut

Village of Old Harbor

Village of Red Devil

Village of Salamatoff

Village of Sleetmute

Village of Solomon

Village of Stony River

Village of Venetie (See Native Village of Venetie Tribal Government)

Village of Wainwright

Wrangell Cooperative Association

Yakutat Tlingit Tribe

Yupiit of Andreafski

[FR Doc. 2014-01683 Filed 1-28-14; 8:45 am]

BILLING CODE 4310-4J-P